DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of the third meeting of the Marine Protected Areas Federal Advisory Committee (MPA FAC) in Key Largo, Florida.

DATES: The meeting will be held Tuesday, April 6, from 8:30 a.m. to 5 p.m., Wednesday, April 7, from 8:30 a.m. to 5 p.m., and Thursday, April 8, from 8:30 a.m. to 12 p.m. These times and the agenda topics described below may be subject to change. Refer to the web page listed below for the most up-to-date meeting agenda.

ADDRESSES: The meeting will be held at the Holiday Inn Resort and Marina, 99701 Overseas Highway, Key Largo, Florida 33037.

FOR FURTHER INFORMATION CONTACT: Charles Wahle, Acting Designated Federal Officer, MPA FAC, National Marine Protected Areas Center—Science Institute, 110 Shaffer Road, Santa Cruz, CA, 95060. (Phone: 831-242-2052, Fax: 831-242-2051); e-mail: charles.wahle@noaa.gov; or visit the national MPA Center Web site at http://www.mpa.gov).

SUPPLEMENTARY INFORMATION: The MPA FAC, composed of external, knowledgeable representatives of stakeholder groups, has been established by the Department of Commerce to provide advice to the Secretaries of Commerce and Interior on implementation of section 4 of Executive Order 13158 on MPAs. The meeting will be open to public participation, with a 2-hour time period set aside from 3 p.m. to 5 p.m. on Tuesday, April 6, 2004, and 30 minutes set aside from 8:10 a.m. to 8:40 a.m. on Thursday, April 8, 2004, for the Committee to receive verbal comments from the public. In general, each individual or group making a verbal presentation will be limited to a total time of five (5) minutes. Copies of written statements should be submitted to the Designated Federal Official by Friday, April 2, 2004.

Matters to be Considered: On Tuesday, April 6, the Committee will discuss the charges to the three subcommittees that have been established: (1) National System of MPAs; (2) Stewardship and Effectiveness of MPAs; and (3) National and Regional Coordination of MPA Efforts. The subcommittees will then meet. On Tuesday afternoon, the Committee will receive comments from the public.

On Wednesday, April 7, the Committee will meet to receive provisional reports from the subcommittees. The subcommittees will then resume their work. In the afternoon, the Committee members will take a field tour of the Florida Keys National Marine Sanctuary.

On Thursday, April 8, the Committee will receive comments from the public. The subcommittees will then meet. The full Committee will meet to further consider subcommittee reports and to discuss the timing and agenda for the next meeting.

Dated: March 17, 2004.
Jamison S. Hawkins,
Deputy Assistant Administrator, Ocean Services and Coastal Zone Management, National Oceanic and Atmospheric Administration.

[FR Doc. 04-6413 Filed 3-19-04; 8:45 am]

BILLING CODE 3510-08-P